DEPARTMENT OF JUSTICE

Antitrust Division

Notice Pursuant to the National Cooperative Research and Production Act of 1993—Consortium for Execution of Rendezvous and Servicing Operations

Notice is hereby given that, on May 4, 2021, pursuant to Section 6(a) of the National Cooperative Research and Production Act of 1993, 15 U.S.C. 4301 et seq. (“the Act”), Consortium for Execution of Rendezvous and Servicing Operations (“CONFERS”) filed written notifications simultaneously with the Attorney General and the Federal Trade Commission disclosing changes in its membership. The notifications were filed for the purpose of extending the Act's provisions limiting the recovery of antitrust plaintiffs to actual damages under specified circumstances. Specifically, High Earth Orbit Robotics, New South Wales, AUSTRALIA and Obruta Space Solutions Corp, Ottawa, CANADA have been added as parties to this venture.

Blue Haptics, Inc. (dba Olis Robotics), Seattle, WA and Stellar Exploration, Inc., San Luis Obispo, CA have withdrawn as a party to this venture.

No other changes have been made in either the membership or planned activity of the group research project. Membership in this group research project remains open, and CONFERS intends to file additional written notifications disclosing all changes in membership.

On September 10, 2018, CONFERS filed its original notification pursuant to Section 6(a) of the Act. The Department of Justice published a notice in the Federal Register pursuant to Section 6(b) of the Act on October 19, 2018 (83 FR 53106).

The last notification was filed with the Department on February 1, 2021. A notice was published in the Federal Register pursuant to Section 6(b) of the Act on February 12, 2021 (86 FR 9372).

Suzanne Morris,
Chief, Premerger and Division Statistics, Antitrust Division.

[FR Doc. 2021-10915 Filed 5-21-21; 8:45 am]

BILLING CODE 4410-11-P